DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from San Juan County, NM.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by American Museum of Natural History professional staff in consultation with representatives of the Navajo Nation, Arizona, New Mexico and Utah.

In 1900, human remains representing a minimum of one individual were collected by Dr. Ales Hrdlicka from a battlefield site in the Chuska Mountains, San Juan County, NM. No known individual was identified. No associated funerary objects are present. The site from which the human remains were removed is on the Navajo Indian Reservation.

Catalog records identify the human remains as Navajo. The area from which the human remains were removed has been documented as an area of warfare between the Navajo and other groups. The human remains are from an area that is within the exterior boundaries of the present-day Navajo Indian Reservation and within post-contact Navajo territory.

Although the lands from which the human remains were removed are currently under the jurisdiction of the U.S. Department of the Interior, Bureau of Indian Affairs, the American Museum of Natural History has control of the human remains since the removal of the human remains from tribal lands predates the permit requirements established by the Antiquities Act of 1906.

Officials of the American Museum of Natural History have determined that, pursuant to 25 U.S.C. 3001 (9-10), the human remains described above represent the physical remains of one individual of Native American ancestry. Officials of the American Museum of Natural History also have determined that, pursuant to 25 U.S.C. 3001 (2), there is a relationship of shared group identity that can be reasonably traced between the Native American human remains and the Navajo Nation, Arizona, New Mexico and Utah.

Representatives of any other Indian tribe that believes itself to be culturally affiliated with the human remains should contact Luc Litwinionek, Director of Cultural Resources, American Museum of Natural History, Central Park West at 79th Street, New York, NY 10024-5192, telephone (212) 769-5846, before November 7, 2003. Repatriation of the human remains to the Navajo Nation, Arizona, New Mexico and Utah may proceed after that date if no additional claimants come forward.

The American Museum of Natural History is responsible for notifying the Navajo Nation, Arizona, New Mexico and Utah that this notice has been published.

Dated: August 6, 2003.
John Robbins,
Assistant Director, Cultural Resources.

[FR Doc. 03-25532 Filed 10-7-03; 8:45 am]

BILLING CODE 4310-70-S